FEDERAL ELECTION COMMISSION

Sunshine Act Notice

Date And Time: Tuesday, October 8, 2002, at 10 a.m.

Place: 999 E Street, NW., Washington, DC (Ninth Floor).

Status: This meeting will be open to the public.

Items to be Discussed. Correction and Approval of Minutes.

Draft Advisory Opinion 2002-07: Careau & Co. and Mohre Communications by Robert F. Carrot, President.

Draft Advisory Opinion 2002-11: Mortgage Bankers Association of America (MBAA) and MBAA PAC by counsel, Jan Witold Baran and Carol A. Laham.

Routine Administrative Matters.

Date And Time: Tuesday, October 8, 2002, to follow the open meeting.

Place: 999 E Street, NW., Washington, DC.

Status: This meeting will be closed to the public.

Items to be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date And Time: Thursday, October 10, 2002, at 10 a.m.

Place: 999 E Street, NW., Washington, DC (Ninth Floor).

Status: This meeting will be open to the public.

Items to be Discussed: Correction and Approval of Minutes.

Notice of Proposed Rulemaking on Consolidated Reporting.

Explanation and Justification for Electioneering Communications Final Rules.

Explanation and Justification for Interim Final Rules on FCC Electioneerinig Communications Database.

FOR MORE INFORMATION CONTACT: Mr. Ron Harris, Press Officer, Telephone: (202) 694-1220.

Mary W. Dove,
Secretary of the Commission.

[FR Doc. 02-25206 Filed 9-30-02; 2:58 pm]

BILLING CODE 6715-01-M